FEDERAL MEDIATION AND CONCILIATION SERVICE

29 CFR Part 1400

RIN 3076-AA21

Rescission of the Code of Professional Conduct for Labor Mediators

AGENCY: Federal Mediation and Conciliation Service.

ACTION: Final rule; rescission of regulation.

SUMMARY: On April 6, 1966, the Federal Mediation and Conciliation Service (FMCS) published a final rule adopting a Code of Professional Conduct for Labor Mediators. After careful review, FMCS finds that this rule is no longer suitable for publication. Therefore, this final rule rescinds the appendix regarding the Code of Professional Conduct for Labor Mediators.

DATES: This final rule is effective November 15, 2022.

FOR FURTHER INFORMATION CONTACT: Anna Davis, Deputy General Counsel, Office of General Counsel, Federal Mediation and Conciliation Service, 250 E St. SW, Washington, DC 20427; Office/Fax/Mobile 202-606-3737; adavis@fmcs.gov.

SUPPLEMENTARY INFORMATION:

I. Discussion

In 1964, a Code of Professional Conduct for Labor Mediators was drafted by a Federal-State Liaison Committee and approved by the Federal Mediation and Conciliation Service (FMCS) and the Association of Labor Mediation Agencies. On April 6, 1966, at 31 FR 5423, the FMCS published a final rule entitled “Appendix to Part 1400—Code of Professional Conduct for Labor Mediators,” which contained the complete narrative of the Code.

After consideration and review, FMCS has concluded that this nearly sixty-year-old Code adopted by the FMCS no longer reflects the agency's values, scope of services provided by FMCS mediators, or best practices for conflict management and resolution services. Moreover, it addresses employee conduct which is purely an internal agency matter. Therefore, FMCS is issuing this final rule, which rescinds the rule on the Appendix to Part 1400—Code of Professional Conduct for Labor Mediators.

II. Final Rule

FMCS has determined that this rule is suitable for final rulemaking. The revisions to FMCS' policies and requirements surrounding mediators are purely internal matters of agency management, as well as the agency's procedure, and practice. Accordingly, FMCS is not required to engage in a notice and comment process to issue this rule under the Administrative Procedures Act, See U.S.C. 553(a)(2), 553(b)(A). Furthermore, because this rule is procedural rather than substantive, the normal requirement of 5 U.S.C. 553(d) that a rule not be effective until at least 30 days after publication in the Federal Register is inapplicable. FMCS also finds good cause to provide an immediate effective date for this rule because it imposes no obligations on parties outside the federal government and therefore no advance notice is required to enable employers or other private parties to come into compliance.

List of Subjects in 29 CFR Part 1400

Administrative practice and procedure, Labor management relations.

For the reasons discussed in the preamble, and under the authority of 29 U.S.C. 172 and the Taft-Hartley Act of 1947, FMCS amends 29 CFR part 1400 as follows:

PART 1400—STANDARDS OF CONDUCT, RESPONSIBILITIES, AND DISCIPLINE

1. The authority citation for part 1400 continues to read as follows:

Authority: E.O. 11222, 30 FR 6469, 3 CFR, 1965 Supp.; 5 CFR 735.104.

Appendix to Part 1400 [Removed]

2. Remove the appendix to part 1400.

Dated: November 3, 2022.
Anna Davis,
Deputy General Counsel.

[FR Doc. 2022-24407 Filed 11-14-22; 8:45 am]

BILLING CODE 6732-01-P